DEPARTMENT OF LABOR

Employment and Training Administration

Notice of Determinations Regarding Eligibility to Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of February and March 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-54,260; New Era Die Company, Red Lion, PA

TA-W-54,208; Davidson Industries, Inc., Mapleton, OR

TA-W-54,082; Fountain Construction Co., Inc., Assembly Board Tooling Div., Jackson, MS

TA-W-54,042; R. Sabee Company LLC, Appleton, WI

TA-W-54,053; Quality Fabricating, Inc., North Huntington, PA

TA-W-53,993; Newell Rubbermaid, Inc., Wooster, OH

TA-W-54,002; ASTI, Inc., Transaction Printer Group, Inc., Riverton, WY

TA-W-53,999; Collins & Aikman, Carpet and Acoustics Div., Greenville, SC

TA-W-54,005; Vermont Fasteners Manufacturing, Div. of IFC U.S.A. Corp., Swanton, VT

TA-W-53,932; Corex Products, Inc., Springfield, MA

TA-W-54,272; Tweave, Inc., Norton, MA

TA-W-54,028; Means Industries, Inc., Vassar Plant, a subsidiary of Amsted Industries, Vassar, MI

TA-W-53,962; Wagner Plastics, Inc., Clinton, MA

TA-W-54,387; Shapiro Packing Co., Inc., August, GA

TA-W-54,248; K S Bearings, Inc., Greensburg, IN

TA-W-54,128; Precision Disc Corp., Knoxville, TN

TA-W-54,183; Northland Cranberries, Inc., Jackson Plant, Jackson, WI

TA-W-54,140; Ashton Photo Co., including leased workers from Personnel Source, Salem, OR

TA-W-54,222; Rohm and Haas Co., Elma, WA

TA-W-54,106; Susan Mills, Inc., Hillside, NJ

TA-W-54,094; Solvay Solexis, Inc., Orange, TX

TA-W-54,097; JII Promotions, Inc., a subsidiary of Jordan Industries, Inc., Coshocton, OH

TA-W-54,111; PCD Camcar Textron, Rockford, IL

TA-W-54,243; Tateishi of America, Inc., Pineville, NC

TA-W-54,105; Creative Pultrusion, Roswell, NM

TA-W-54,075; Unilever Home and Personal Care, Cartersville, GA

TA-W-54,085; Franklin Industries, Franklin, PA

TA-W-54,229 & A; Deluxe Global Media Services, LLC, a subsidiary of Deluxe Media Services, Inc., DVD Replication Facility, Carson, CA and Ontario, CA

TA-W-53,992; Twin City Leather Co., Inc., Gloversville, NY

TA-W-54,079; Kaddis Manufacturing Corp., Parsons, TN

TA-W-54,115 & A; California Amplifier, Inc., KTI Division, Richland Center, WI and Components Div., Spring Green, WI

TA-W-54,221; Greif Brothers Service Corp., Industrial Packaging and Services Div., Kingsport, TN

TA-W-52,861; Intermet, Radford Foundry, Radford, VA

TA-W-54,055; Entek International LLC, Lebanon, OR

TA-W-54,035; Hi-Country Foods Corp., Selah, WA

TA-W-54,018; Tyco Plastics, a subsidiary of Tyco International, Ltd, Fairmont, MN

TA-W-54,014; Bager Equipment Co., Winona, MN

TA-W-54,176; Malamute Enterprises, Inc., Fishing Vessel (F/V) Malamute Kid, Homer, AK

TA-W-54,064; RMG Foundry LLC, Mishawaka, IN

TA-W-53,978; Academy Die Casting and Plating Co., Inc., Edison, NJ

TA-W-54,217; J.S. Technos Corp., a subsidiary of Robert Bosch Corp., including leased workers from Quality Personnel, Russellville, KY

TA-W-54,142; Jac Pac Foods, a subsidiary of Tyson Prepared Foods, Inc., a subsidiary of Tyson Foods, Inc., Manchester, NH

TA-W-52,861; Intermet, Radford Foundry, Radford, VA

TA-W-54,081; The Toro Co., including leased workers of Ablest & Adecco, Oxford, MS: “All workers engaged in employment related to the assembly of 2 cycle engines are denied eligibility to apply for adjustment assistance.”

The workers firm does not produce an article as required for certification under Section 222 of the Trade Act of 1974.

TA-W-54,089; Sun Microsystems, Austin, TX

TA-W-54,337; Owens Brockway, a/k/a Owens Illinois, Antioch, CA

TA-W-54,256; Aastra Telecom U.S., Inc., Aastra Technologies Limited, Lynchburg, VA

TA-W-54,300; Hewlett-Packard Co., Houston, TX

TA-W-54,311; Interconex, Inc., d/b/a Interdean.Interconex, Danbury, CT

TA-W-54,309; Big Bear Plus #254, a subsidiary of The Penn Traffic Co., Portsmouth, OH

TA-W-54,338; Loftin Black Furniture Co., Thomasville, NC

TA-W-54,125; Ingersol-Rand Co., Air Solutions/OEM Systems Div., Davidson, NC

TA-W-54,235; Electronic Data Systems Corp., Kokomo, IN

TA-W-54,171; Chromalox, Inc., Vernon, AL

TA-W-54,213; Broad Street Bonded Warehouse, Inc., Gastonia, NC

TA-W-54,071; BGE, Ltd, Div. of The Bradford Group, Niles, IL

TA-W-54,280; Baptist Regional Medical Center, Corbin, KY

TA-W-54,185; CMD3D, LLC, Saco, ME

TA-W-54,392; Safelite Group, Inc., a subsidiary of Safelite Glass Corp., Great Falls, MT

TA-W-54,263; Blue Mountain, Olney Wallcovering, Spartanburg, SC

TA-W-54,191; Hewlett Packard Co., Atlanta, GA

TA-W-54,228; Bangor Hydro Electric Co., a div. of Emera, Inc., Bangor, ME

TA-W-54,298; Accenture LLP, Houston, TX

TA-W-54,154; Emerson Process Management, Performance Solutions Div., Austin, TX

The investigation revealed that criterion (a)(2)(A)(I.A) (no employment decline) has not been met.

TA-W-54,100; American Safety Razor Co., Verona, VA

TA-W-54,323; Andover Wood Products, a subsidiary of Ethan Allen, Inc., Andover, ME

TA-W-54,169; IBM Global Services, Application Management Services, Essex Junction, VT

TA-W-54,205; Westling Manufacturing Co., including leased workers of ASAP Employment Services, Princeton, MN

The investigation revealed that criteria (2) has not been met. The workers firm (or subdivision) is not a supplier or downstream producer to trade-affected companies.

TA-W-54,073; Crews Manufacturing/Uptex, K.C. Holdings, The Rock, GA

The investigation revealed that criteria (a)(2)(A)(I.B) (Sales or production, or both, did not decline) and (a)(2)(B)(II.B) (has shifted production to a county not under the free trade agreement with U.S.) have not been met.

TA-W-54,194; Dana Corp., Perfect Circle Div., Manchester, MO

The investigation revealed that criteria (a)(2)(A)(I.B) (Sales or production, or both, did not decline) and (a)(2)(B)(II.C) (has shifted production to a foreign country) have not been met.

TA-W-54,039; Ehlert Tool Co., New Berlin, WI

The investigation revealed that criteria (a)(2)(A)(I.C) (increased imports) and (a)(2)(B)(II.B) (has shifted production to country not under the free trade agreement with U.S)) have not been met.

TA-W-54,117; Milliken & Co., Saluda Plant, Saluda, SC

Affirmative Determinations for Worker Adjustment Assistance

The following certifications have been issued; the date following the company name and location of each determination references the impact date for all workers of such determination.

The following certifications have been issued. The requirements of (a)(2)(A) (increased imports) of Section 222 have been met.

TA-W-54,179; Sea Gull Lighting Products, Inc., Philadelphia, PA: January 28, 2003.

TA-W-54,056; Stanley Services, Workers at Harriet and Henderson Yarns, Harriet 1, Henderson, NC: January 23, 2003.

TA-W-53,033; Aluminum Color Industries, Inc., Lowellville, OH: January 14, 2003.

TA-W-54,025; Columbia Showcase and Cabinet Co., Inc., Sun Valley, CA: December 22, 2002.

TA-W-54,210; Flynt Fabrics, Inc., Graham, NC: August 9, 2003.

TA-W-54,329; Diefendorf Gear, LLC, Syracuse, NY: February 11, 2003.

TA-W-54,143; Elizabeth Weaving, Inc., Grover, NC: January 21, 2003.

TA-W-54,023; J & J Knitting, Ridgewood, NY: January 8, 2003.

TA-W-54,180; Michels South Carolina, d/b/a Pilliod Furniture, Nichols, SC: February 2, 2003.

TA-W-54,347; Gold Star Coatings, Arden, NC: February 11, 2003.

TA-W-54,051; Ferriot, Inc., Mold Building Div., Akron, OH: January 20, 2003.

TA-W-54,383; Hewlett Packard, Workers at Agere Systems, Inc., Allentown, PA: February 19, 2003.

TA-W-54,198; Rockwell Automation, ACIG Div., Dublin, GA: February 3, 2003

TA-W-54,359; Koo's Manufacturing, Inc., South Gate, CA: December 4, 2002.

TA-W-54,299; H.I. Apparel Cutting, Inc., Clinton, NC: February 13, 2003.

TA-W-54,245; S&D Hosiery, Locust, NC: February 5, 2003.

TA-W-54,278; Cochrane Furniture Co., Upholstery Div., Lincolnton, NC: February 6, 2003

TA-W-54,199 & A; Kincaid Furniture Co., Inc., Plant 1, Hudson, NC and Plant 6, Hudson, NC: January 9, 2003.

TA-W-53,888; Artesyn Technologies, Redwood Falls, MN: December 13, 2003.

TA-W-54,182; Flexsys America LP, Nitro Plant, Nitro, WV: February 6, 2003.

TA-W-53,913 & A; Smead Manufacturing, Hastings Facility, Hastings, MN and River Falls Facility, River Falls, WI: December 22, 2002.

TA-W-54,090; Plaid Clothing, Erlanger, KY: January 27, 2003.

TA-W-54,120; Packard-Hughes Interconnect, d/b/a Delphi Mechatronic Systems, Foley Operations, a subsidiary of Delphi Packard electric, a div. of The Delphi Corp., Foley, AL: January 28, 2003.

TA-W-54,114 & A, B, C; The Boeing Co., Commercial Aircraft Group, Puget Sound Region, WA, Portland, OR, Wichita, KS and Triumph Group, Inc. (formerly The Boeing Co), Spokane, WA: March 19, 2004.

TA-W-54,096; Aelco Foundries, Inc., First Odyssey, Milwaukee, WI: January 28, 2003.

TA-W-54,003; MDF Moulding and Millwork, Idabel, OK: January 12, 2003.

TA-W-54,220; National Textiles, Galax, VA: February 5, 2003.

TA-W-54,287; Masonite Corp., Danville Components, a subsidiary of Masonite International Corp., including leased workers of Adecco Employment Services, Ameristaff Companies, Inc., and Debbie's Staffing Services, Danville, VA: February 12, 2003.

TA-W-54,031; Del Monte, Inc., Plant No. 122, Canned Asparagus Operations, a div. of Del Monte Foods, Inc., Toppenish, WA: January 15, 2003.

TA-W-54,013; Sappi Cloquet LLC, d/b/a Sappi Fine Paper North America, formerly known as Potlatch Corp., Cloquet, MN: February 28, 2003.

TA-W-54,021; Honeywell International, Specialty Films Div., including leased workers of Manpower, Pottsville, PA: January 14, 2003.

TA-W-54,037; Micro Med Machining, d/b/a UTI Corp., Miramar, FL: January 12, 2003.

TA-W-54,040; Wohlert Special Products Co., Sault Ste. Marie, MI: January 14, 2003.

TA-W-54,092; Gerber Plumbing Fixtures, LLC, Gadsden, AL: January 22, 2003.

TA-W-54,121; Coach Leatherware Corp., Carlstadt, NJ: January 22, 2003.

TA-W-54,149; Schott Scientific Glass, Inc., Parkersburg, WV: February 2, 2003.

TA-W-54,264; Comeaux Marketing, Inc., St. Amant, LA: February 9, 2003.

TA-W-54,289; Regal Beloit Corp., Motor Technologies Group, Leeson Electric, Saukville, WI: February 17, 2003.

TA-W-54,060; MI Home Products, Window and Door Div., Elizabethville, PA: January 2, 2003.

TA-W-53,291 & A, B; Cone Mills Corp., Carlisle Plant Div., Carlisle, SC, Cone Rutherford County, LLC Div., Cliffside, NC and Cone White Oak, LLC Div., Greensboro, NC: October 14, 2002.

The following certifications have been issued. The requirements of (a)(2)(B) (shift in production) of Section 222 have been met.

TA-W-54,226; Plastic Research and Development, a subsidiary of EBSCO Industries, Inc., Mulberry, AR: February 4, 2003.

TA-W-54,225; PRADCO Outdoor Brand, a subsidiary of EBSCO Industries, Inc., Hot Springs, AR: February 4, 2003.

TA-W-54,181; Oxford Industries, Cutting Department, Gaffney, SC: February 4, 2003.

TA-W-54,262; Fluidmaster, Inc., San Juan Capistrano, CA: February 2, 2003.

TA-W-54,195; Tyco Valves & Controls N.A., Foundry, Prophetstown, IL: February 4, 2002.

TA-W-54,004; Medline Industries, d/b/a Maxxim Medical, Inc., Maxxim Boundary, including leased workers of Kelly Services, Columbus, MS: December 18, 2002.

TA-W-53,985; Vishay BLH, Inc., a div. of Vishay Intertechnology, Inc., Canton, MA: January 8, 2003.

TA-W-54,277; S & R Products, LLC, d/b/a Summit Sportswear, Santa Ana, CA: February 13, 2003.

TA-W-54,257; MCS Industries, Inc., including leased workers of Adecco Personnel, Allied Personnel Services and Job Connection, Easton, PA: February 10, 2003.

TA-W-54,159; Advanced Modeling & Consulting, Inc., Fairview, PA: February 3, 2003.

TA-W-54,081; The Toro Co., including leased workers of Ablest and Adecco, Oxford, MS: January 12, 2003.

TA-W-54,318; SCI Technology, Inc., Enclosure Div., a subsidiary of Sanmina-SCI, Richmond, KY: February 19, 2003.

TA-W-54,382; Inter Metro Industries Corp., and lease workers of Select Personnel, Cucamonga, CA: February 27, 2003.

TA-W-54,230; Henlopen Manufacturing Co., Melville, NY: January 23, 2003.

TA-W-54,167; Quest, Inc., Roswell, NM: January 23, 2003.

TA-W-54,401; G.S.W. Manufacturing, Inc., Findlay, OH: March 1, 2003.

TA-W-54,356; E-Z-EM Caribe, Inc., San Lorenzo, PR: February 5, 2003.

TA-W-54,238; Saylor Industries, Inc., Johnstown, PA: February 4, 2003.

TA-W-54,130; Kvaerner Oilfield Products, Inc., a subsidiary of Aker Kvaerner AS, Houston, TX: January 20, 2003.

TA-W-54,270; Tellabs Operations, Inc., Naperville, IL: February 12, 2003.

TA-W-54,249; VF Jeanswear Limited Partnership, a subsidiary of VF Corp., Irvington, AL: February 12, 2003.

TA-W-54,164; Maida Development Co., including leased workers of Integrity Staffing Services, Hampton, VA: January 28, 2003.

TA-W-54,155; Wyeth Nutritional, a div. of Wyeth Pharmaceuticals, including leased workers of Kelly Services, Georgia, VT: February 2, 2003.

TA-W-54,206; Bird Machine, a subsidiary of Baker Hushes, Inc., South Walpole, MA: January 28, 2003.

TA-W-54,147; Metso Minerals Industries, Inc., Colorado Springs, CO: February 2, 2003.

TA-W-54,261; Alkahn Labels, Inc., Jac-Arts Div., Cochran, GA: January 19, 2003.

TA-W-54,297; Johnson Controls, Inc., Automotive Systems Group, Dayton, NJ: February 17, 2003.

TA-W-54,158; Bestt Liebco Corp., Fond du Lac, WI: February 3, 2003.

TA-W-54,258; Just-A-Stretch of R.I., Inc., Hope, RI: February 11, 2003.

TA-W-54,321 and A; Shorewood Packaging, Clifton, NJ and Teaneck, NJ: February 19, 2003.

TA-W-54,187; ABB, Inc., Instrumentation Div., Warminster, PA: February 2, 2003.

TA-W-53,995; Lake Region Manufacturing, Inc., Lake Region Medical, Inc., Pittsburgh, PA: January 12, 2003.

TA-W-54,153; Myron Corp., Maywood, NJ: February 2, 2003.

TA-W-54,283; Encompass Group, LLC, Houston, TX: February 13, 2003.

TA-W-54,331; Littelfuse, Inc., Centralia, IL: August 22, 2003.

TA-W-54,099; FCI USA, Inc., Emigsville, PA: February 26, 2004.

TA-W-54,207; Irwin Industrial Tools, Hand Tool Div., Wilmington Plant #1, a div. of Newell Rubbermain, including lased workers of Aerotek, Inc., Wilmington, OH: February 5, 2003.

TA-W-54,148; Bombardier Learjet, Inc., a div. of The Bombardier Aerospace Group, a div. of Bombardier, Inc., Wichita, KS: January 28, 2003.

TA-W-54,047; Siemens Energy and Automation, Process Industries Div., Springhouse, PA: January 19, 2003.

TA-W-54,091; Luzenac America, Inc., Windsor, VT: January 26, 2003.

TA-W-54,129 and A, B,; Kemet Electronics Corp., Mauldin Plant, Simpsonville, SC, Simpsonville Facility, Simpsonville, SC, Fountain Inn Plant, Fountain Inn, SC: “All workers engaged in employment related to the production of ceramic or tantalum electronic capacitors who became totally or partially separated from employment on or after January 3, 2004.

TA-W-54,129C; Kemet Electronics Corp., Shelby Plant, including leased workers of Personnel Services Unlimited, Shelby, NC: “All workers engaged in employment related to the production of ceramic sheet used to make ceramic electronic capacitors, who became totally or partially separated from employment on or after January 30, 2003.

TA-W-54,146; L.S. Starrett Co., Inc., Level Industries Div., Alum Bank, PA: February 2, 2003.

TA-W-53,995; Lake Region Manufacturing, Inc., Lake Region Medical, Inc., Pittsburgh, PA: January 12, 2003.

TA-W-54,081; The Toro Co., including leased workers of Ablest & Adecco, Oxford, MS: “All workers engaged in employment related to the machining of 2 cycle engine components who became totally or partially separated from employment on or after January 12, 2003.”

The following certification has been issued. The requirement of upstream supplier to a trade certified primary firm has been met.

TA-W-54,268; Flextronics, San Diego, CA: February 12, 2003.

TA-W-54,312; Randolph Dimension Corp., Randolph, NY: February 11, 2003.

TA-W-54,301; Supreme Elastic Corp., Conover, NC: February 18, 2003.

TA-W-54,240; Litchfield Fabrics of North Carolina, Gastonia, NC: February 4, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department as determined that criterion (1) of section 246 has not been met. Workers at the firm are 50 years of age or older.

TA-W-53,318; **Moll Industries, Austin, TX

TA-W-53,865; American Standard, Inc., Porcher Div., Chandler, AZ

TA-W-53,843; Diversified Dynamics Corp., Home Right Div., Blaine, MN

TA-W-53,270; C & L Manufacturing Co., Hays, NC

The Department as determined that criterion (3) of Section 246 has not been met. The competitive conditions within the workers' industry is adverse.

TA-W-54,123; **Bard Endoscopic Technologies, Mentor, OH

TA-W-53,519; Field Container Co. L.P., St. Clair Pakwell Div., Bellwood, IL

The Department as determined that criterion (2) of Section 246 has not been met. Workers at the firm possess skills that are easily transferable.

TA-W-53,995; Lake Region Manufacturing, Inc., Lake Region Medical, Inc., Pittsburgh, PA

Since the workers are denied eligibility to apply for TAA, the workers cannot be certified eligible for ATAA.

TA-W-53,962; Wagner Plastics, Inc., Clinton, MS

TA-W-54,387; Shapiro Packing Co., Inc., Augusta, GA

TA-W-54,248; K S Bearings, Inc., Greensburg, IN

TA-W-54,128; Precision Disc Corp., Knoxville, TN

TA-W-54,183; Northland Cranberries, Inc., Jackson Plant, Jackson, WI

TA-W-54,140; Ashton Photo Co., including leased workers from Personnel Source, Salem, OR

TA-W-54,222; Rohn and Haas Co., Elma, WA

TA-W-54,106; Susan Mills, Inc., Hillside, NJ

TA-W-54,094; Solvay Solexis, Inc., Orange, TX

TA-W-54,097; JII Promotions, Inc., a subsidiary of Jordan Industries, Inc., Coshocton, OH

TA-W-54,185; CMD3D, LLC, Saco, ME

TA-W-54,323; Andover Wood Products, a subsidiary of Ethan Allen, Inc., Andover, ME

TA-W-53,993; Newell Rubbermaid, Inc., Wooster, OH

TA-W-54,075; Unilever Home and Personal Care, Cartersville, GA

TA-W-54,085; Franklin Industries, Franklin, PA

TA-W-54,229 & A; Deluxe Global Media Services, LLC, a subsidiary of Deluxe Media Services, Inc., DVD Replication Facility, Carson, CA and Ontario, CA

TA-W-53,992; Twin City Leather Co., Inc., Gloversville, NY

TA-W-54,079; Kaddis Manufacturing Corp., Parsons, TN

TA-W-54,115 & A; California Amplifier, Inc., KTI Div., Richland Center, WI and Components Div., Spring Green, WI

TA-W-54,221; Greif Brothers Service Corp., Industrial Packaging and Services Div., Kingsport, TN

TA-W-54,055; Entek International LLC, Lebanon, OR

TA-W-54,035; Hi-Country Foods Corp., Selah, WA

TA-W-54,018; Tyco Plastics, a subsidiary of Tyco International, Ltd, Fairmont, MN

TA-W-54,014; Badger Equipment Co., Winona, MN

TA-W-54,176; Malamute Enterprises, Inc., Fishing Vessel (F/V) Malamute Kid, Homer, AK

TA-W-54,064; RMG Foundry LLC, Mishawaka, IN

TA-W-53,978; Academy Die Casting & Plating Co., Inc., Edison, NJ

TA-W-54,217; J.S. Technos Corp., a subsidiary of Robert Bosch Corp., including leased workers from Quality Personnel, Russellville, KY

TA-W-54,392; Safelite Group, Inc., a subsidiary of Safelite Glass Corp., Great Falls, MT

TA-W-54,263; Blue Mountain, Olney Wallcovering, Spartanburg, SC

TA-W-54,191; Hewlett Packard Co., Atlanta, GA

TA-W-54,228; Bangor Hydro Electric Co., a div. of Emera, Inc., Bangor, ME

TA-W-54,298; Accenture LLP, Houston, TX

TA-W-54,154; Emerson Process Management, Performance Solutions Div., Austin, TX

TA-W-54,169; IBM Global Services, Application Management Services, Essex Junction, VT

TA-W-54,205; Westling Manufacturing Co., including leased workers of ASAP Emloyment Services, Princeton, MN

TA-W-54,117; Milliken & Co., Saluda Plant, Saluda, SC

TA-W-54,073; Crews Manufacturing/Uptex, K.C. Holdings, The Rock, GA

TA-W-54,142; Jac Pac Foods, a subsidiary of Tyson Prepared Foods, Inc., a subsidiary of Tyson Foods, Inc., Manchester, NH

TA-W-52,861; Intermet, Radford Foundry, Radford, VA

TA-W-54,081; The Toro Co., including leased workers of Ablest & Adecco, Oxford, MS: “All workers engaged in employment related to the assembly of 2 cycle engines are denied eligibility to apply for adjustment assistance.”

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-54,240; Litchfield Fabrics of North Carolina, Gastonia, NC: February 4, 2003.

TA-W-53,888; Artesyn Technologies, Redwood Falls, MN: December 13, 2003.

TA-W-54,182; Flexsys America LP, Nitro Plant, Nitro, WV: February 6, 2003.

TA-W-53,913; Smead Manufacturing, Hastings Facility, Hastings, MN and River Falls Facility, River Falls, WI: December 22, 2002.

TA-W-54,090; Plaid Clothing, Erlanger, KY: January 27, 2003.

TA-W-54,220; National Textiles, Galax, VA: February 5, 2003.

TA-W-54,264; Comeaux Marketing, Inc., St. Amant, LA: February 9, 2003.

TA-W-54,287; Masonite Corp., Danville Components, a subsidiary of Masonite International Corp., including leased workers of Adecco Employment Services, Ameristaff Companies, Inc., and Debbie's Staffing Services, Danville, VA: February 12, 2003.

TA-W-54,120; Packard-Hughes Interconnect, d/b/a Delphi Mechatronic Systems, Foley Operations, a subsidiary of Delphi Packard Electric, a div. of The Delphi Corp., Foley, AL: January 28, 2003.

TA-W-54,114 and A, B, and C; The Boeing Co., Commercial Aircraft Group, Puget Sound Region, WA, Portland, OR, Wichita, KS and Triumph Group, Inc., formerly The Boeing Co., Spokane, WA: March 19, 2004.

TA-W-54,096; Aelco Foundries, Inc., First Odyssey, Milwaukee, WI: January 28, 2003.

TA-W-54,003; MDF Moulding and Millwork, Idabel, OK: January 12, 2003.

TA-W-54,031; Del Monte, Inc., Plant No. 122, Canned Asparagus Operations, a div. of Del Monte Foods, Inc., Toppenish, WA: January 15, 2003.

TA-W-54,013; Sappi Cloquet LLC, d/b/a Sappi Fine Paper North America, formerly known as Potlatch Corp., Cloquet, MN: February 28, 2003.

TA-W-54,021; Honeywell International, Specialty Films Div., including leased workers of Manpower, Pottsville, PA: January 14, 2003.

TA-W-54,040; Wohlert Special Products Co., Sault Ste. Marie, MI: January 14, 2003.

TA-W-54,092; Gerber Plumbing Fixtures, LLC, Gadsden, AL: January 22, 2003.

TA-W-54,121; Coach Leatherware Corp., Carlstadt, NJ: January 22, 2003.

TA-W-54,149; Schott Scientific Glass, Inc., Parkersburg, WV: February 2, 2003.

TA-W-54,289; Regal Beloit Corp., Motor Technologies Group, Leeson Electric, Saukville, WI: February 17, 2003.

TA-W-54,147; Metso Minerals Industries, Inc., Colorado Springs, CO: February 2, 2003.

TA-W-54,261; Alkahn Labels, Inc., Jac-Arts Div., Cochran, GA: January 19, 2003.

TA-W-54,297; Johnson Controls, Inc., Automotive Systems Group, Dayton, NJ: February 17, 2003.

TA-W-54,158; Bestt Liebco Corp., Fond du Lac, WI: February 3, 2003.

TA-W-54,258; Just-A-Stretch of R.I., Inc., Hope, RI: February 11, 2003.

TA-W-54,321 and A; Shorewood Packaging, Clifton, NJ and Teaneck, NJ: February 19, 2003.

TA-W-54,187; ABB, Inc., Instrumentation Div., Warminster, PA: February 2, 2003.

TA-W-54,153; Myron Corp., Maywood, NJ: February 2, 2003.

TA-W-54,283; Encompass Group, LLC, Houston, TX: February 13, 2003.

TA-W-54,331; Littelfuse, Inc., Centralia, IL: August 22, 2003.

TA-W-54,099; FCI USA, Inc., Emigsville, PA: February 26, 2004.

TA-W-54,207; Irwin Industrial Tools, Hand Tool Div., Wilmington Plant #1, a div. of Newell Rubbermaid, including leased workers of Aerotek, Inc., Wilmington, OH: February 5, 2003.

TA-W-54,148; Bombardier Learjet, Inc., a div. of The Bombardier Aerospace Group, a div. of Bombardier, Inc., Wichita, KS: January 28, 2003.

TA-W-54,047; Siemens Energy and Automation, Process Industries Div., Springhouse, PA: January 19, 2003.

TA-W-54,091; Luzenac America, Inc., Windsor, VT: January 26, 2003.

TA-W-54,129 and A, B, C; Kemet Electronics Corp., Mauldin Plant, Simpsonville, SC, Simpsonville Facility, Simpsonville, SC: “All workers engaged in employment related to the production of ceramic or tantalum electronic capacitors, who became totally or partially separated from employment on or after January 3, 2004.”

TA-W-54,129C; Kemet Electronics Corp., Shelby Plant, including leased workers of Personnel Services Unlimited, Shelby, NC: “All workers engaged in employment related to the production of ceramic electronic capacitors who became totally or partially separated from employment on or after January 30, 2003.”

TA-W-54,146; L.S. Starrett Co., Inc., Level Industries Div., Alum Bank, PA: February 2, 2003.

TA-W-53,291 & A, B; Cone Mills Corp., Carlisle Plant Div., Carlisle, SC, Cone Rutherford County, LLC Div., Cliffside, NC and Cone White Oak, LLC Div., Greensboro, NC: October 14, 2002.

TA-W-54,081; The Toro Co., including leased workers of Ablest & Adecco, Oxford, MS: “All workers engaged in employment related to the machining of 2 cycle engine components who became totally or partially separated from employment on or after January 12, 2003.”

I hereby certify that the aforementioned determinations were issued during the months of February and March 2004. Copies of these determinations are available for inspection in Room C-5311, U.S. Department of Labor, 200 Constitution Avenue, NW., Washington, DC 20210 during normal business hours or will be mailed to persons who write to the above address.

Dated: March 30, 2004.
Timothy Sullivan,
Director, Division of Trade Adjustment Assistance.

[FR Doc. 04-7748 Filed 4-5-04; 8:45 am]

BILLING CODE 4510-30-P